ENVIRONMENTAL PROTECTION AGENCY

[EPA-HQ-OPP-2021-0839; FRL-9576-01-OCSPP]

Pesticide Registration Maintenance Fee: Product Cancellation Order for Certain Pesticide Registrations

AGENCY: Environmental Protection Agency (EPA).

ACTION: Notice.

SUMMARY: This notice announces EPA's order for the cancellations, voluntarily requested by the registrants and accepted by the Agency, of the products listed in Table 1 of Unit III, pursuant to the Federal Insecticide, Fungicide, and Rodenticide Act (FIFRA).

DATES: The cancellations are effective February 23, 2022.

FOR FURTHER INFORMATION CONTACT: Michael Yanchulis, Registration Division (7505P), Office of Pesticide Programs, Environmental Protection Agency, 1200 Pennsylvania Ave. NW, Washington, DC 20460-0001; telephone number: (202) 566-2951; email address: yanchulis.michael@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for these actions, identified by docket identification (ID) number EPA-HQ-OPP-2021-0839, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1744.

Due to the public health concerns related to COVID-19, the EPA Docket Center (EPA/DC) and Reading Room is closed to visitors with limited exceptions. The staff continues to provide remote customer service via email, phone, and webform. For the latest status information on EPA/DC services and docket access, visit https://www.epa.gov/dockets.

II. Background

This cancellation order follows a December 7, 2021, Federal Register Notice of Receipt of Requests from the registrants listed in Table 2 of Unit III, to voluntarily cancel these product registrations. In the December 7, 2021, notice, EPA indicated that it would issue an order implementing the cancellations, unless the Agency received substantive comments within the 30-day comment period that would merit its further review of these requests, or unless the registrants withdrew their requests. The Agency did not receive any comments. The registration numbers below were listed in the December 7, 2021, notice but were listed in another request to cancel Federal Register notice so are not listed in this notice. The products and Federal Register Notice are: Federal Register of April 10, 2017 (82 FR 17253; FRL-9950-38): 241-383, 241-395, 241-410, 241-411, and 241-419. Accordingly, EPA hereby issues in this notice a cancellation order granting the requested cancellations. Any distribution, sale, or use of the products subject to this cancellation order is permitted only in accordance with the terms of this order, including any existing stocks provisions.

Section 4(i)(5) of FIFRA (7 U.S.C. 136a-1(i)(5)) requires that all pesticide registrants pay an annual registration maintenance fee, due by January 15 of each year, to keep their registrations in effect. This requirement applies to all registrations granted under FIFRA section 3 (7 U.S.C. 136a) as well as those granted under FIFRA section 24(c) (7 U.S.C. 136v(c)) to meet special local needs. Registrations for which the fee is not paid are subject to cancellation by order and without a hearing.

Under FIFRA, the EPA Administrator may reduce or waive maintenance fees for minor agricultural use pesticides when it is determined that the fee would be likely to cause significant impact on the availability of the pesticide for the use.

In fiscal year 2021, maintenance fees were collected in one billing cycle. On December 1, 2020, all holders of either FIFRA section 3 registrations or FIFRA section 24(c) registrations were sent lists of their active registrations, along with forms and instructions for responding. They were asked to identify which of their registrations they wished to maintain in effect, and to calculate and remit the appropriate maintenance fees. Most responses were received by the statutory deadline of January 15, 2021. A notice of intent to cancel was sent in September of 2021 to companies who did not respond and to companies who responded but paid for less than all their registrations. Since mailing the notices of intent to cancel, EPA has maintained a toll-free inquiry number through which the questions of affected registrants have been answered.

In fiscal year 2021, the Agency has waived the fees for 335 minor agricultural use registrations at the request of the registrants. Maintenance fees have been paid for about 17,467 FIFRA section 3 registrations, or about 98% of the registrations on file in October 2020. Fees have been paid for about 1,996 FIFRA section 24(c) registrations, or about 95% of the total on file in October 2020. Cancellations for non-payment of the maintenance fee affect 148 FIFRA section 3 registrations and 23 FIFRA section 24(c) registrations. These cancellations can be found in Table 4 below. Cancellations for companies paying the fee at one of the capped payment amounts are considered voluntary cancellations since the registration could be maintained without an additional fee payment. These cancellations are subject to a 30-day comment period and are listed in Table 1 below.

The cancellation orders generally permit registrants to continue to sell and distribute existing stocks of the canceled products until 1 year after the date on which the fee was due. Existing stocks already in the hands of dealers or users, however, can generally be distributed, sold, or used legally until they are exhausted. Existing stocks are defined as those stocks of a registered pesticide product which are currently in the United States, and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. What action is the Agency taking?

This notice announces the cancellation, as requested by registrant, of products registered under FIFRA section 3 (7 U.S.C. 136a). These registrations are listed in sequence by registration number in Table 1 of this unit.

Table 1—Product Cancellations
Registration No. | Company No. | Product name
100-1078 | 100 | Scimitar CS Insecticide.
100-1163 | 100 | Suprend Herbicide.
228-611 | 228 | Proclipse 0.2% Fertilizer.
228-614 | 228 | Proclipse 1.0% Fertilizer.
241-319 | 241 | Image 70 DG.
241-438 | 241 | Bas 711 02H Herbicide.
279-3358 | 279 | F7954 Ornamental Insecticide/Miticide.
279-3553 | 279 | Zoro Miticide/Insecticide.
279-3554 | 279 | Abamectin CHA 2071.
499-371 | 499 | Whitmire Pt 120 XLO Sumithrin Contact Insecticide.
499-376 | 499 | Whitmire PT 1810 Total Release Insecticide.
499-426 | 499 | Whitmire TC 114 Emulsifiable Concentrate.
499-443 | 499 | Whitmire TC 161 Injection System.
499-471 | 499 | Whitmire Micro-Gen TC200 Injection System.
499-485 | 499 | TC 218.
499-489 | 499 | TC 62.
499-523 | 499 | TC 260.
499-538 | 499 | TC 130 GEN II.
524-650 | 524 | M1838 Growth Regulator.
524-652 | 524 | M1839 Growth Regulator.
538-279 | 538 | Miracle-Gro (R) Weed & Feed.
1021-1602 | 1021 | Pyrocide Flea & Tick Dip 7407.
1677-241 | 1677 | Hydris.
1706-112 | 1706 | Nalcon 7619.
1706-201 | 1706 | H-510-M Microbiocide.
1839-120 | 1839 | Humidifier Bacteria-Algae Treatment.
1839-152 | 1839 | BTC 1010 7.5% Solution.
2596-22 | 2596 | Hartz 2 In 1 Rid Flea Dog Shampoo.
2693-61 | 2693 | Interlux Interpoxy Bottomkote 559 Green.
2693-64 | 2693 | Red Hand Antifouling Bottom Paint 50 Red.
2693-144 | 2693 | Ultra-Kote 2449H Red.
2693-177 | 2693 | Interclene XMH242 Red.
2693-178 | 2693 | Interspeed BWA360 Red.
2693-217 | 2693 | Intersmooth 460 HS BEAO47 Red.
2724-825 | 2724 | RF2180 KC A/T Combo.
3432-57 | 3432 | L-Clor.
3862-178 | 3862 | Tek-Phene.
3862-179 | 3862 | Opti-Phene Cleaner Disinfectant Deodorant.
5383-155 | 5383 | Troy EX2270.
5383-158 | 5383 | Mergal 187.
5383-177 | 5383 | Fungitrol 400 PVC Fungicide.
5383-181 | 5383 | Nuosept BMC 422.
5481-163 | 5481 | Alco Weed Killer Contact.
5481-167 | 5481 | Wettable Sulfur Agricultural Insecticide-Fungicide.
5481-273 | 5481 | Royal 70 Superior Spray Oil.
5481-494 | 5481 | Chlorethoxyfos 2.5G Granular Insecticide.
5481-502 | 5481 | Ambush 25W Insecticide.
5481-540 | 5481 | Wisdom 0.069% RUP Insecticide.
5481-552 | 5481 | Bidrin XP.
5481-555 | 5481 | Wisdom 0.1% RUP Insecticide.
5481-556 | 5481 | Wisdom 0.10% Granular Insecticide.
5481-557 | 5481 | Wisdom 0.05% Granular Insecticide.
5481-558 | 5481 | Wisdom 0.05% RUP Insecticide.
5481-560 | 5481 | Smartchoice 2.5G.
5481-588 | 5481 | Wisdom 0.2% RUP Granular Insecticide.
5481-593 | 5481 | Wisdom 0.2% Granular Insecticide.
5481-8980 | 5481 | Phorate 20 G.
5481-9029 | 5481 | Aztec 2.1% G Insecticide.
5481-9032 | 5481 | Aztec 3.78% Granular Insecticide.
5736-103 | 5736 | D'Germ Clinging Toilet Bowl Cleaner.
5785-48 | 5785 | Terr-O-Gas 50.
5785-52 | 5785 | 67-33.
5785-58 | 5785 | Chloropicrin.
7173-294 | 7173 | Rozol Pocket Gopher Bait III.
7401-9 | 7401 | Ferti-Lome Dormant Spray and Summer Oil Spray.
7401-443 | 7401 | Ferti-Lome Scalecide.
7969-263 | 7969 | Bas 556 01F Fungicide.
7969-296 | 7969 | Stamina F3 HL Fungicide Seed Treatment.
7969-317 | 7969 | Segment Herbicide.
7969-343 | 7969 | Cyfluthrin Encapsulated Residual Insecticide Spray.
8329-94 | 8329 | Merus 2.0.
8660-12 | 8660 | Herbicide Granules Formula A.
9688-84 | 9688 | Chemsico Lawn & Garden Insect Control.
9688-85 | 9688 | Chemsico Home Insect Control C.
9688-120 | 9688 | Chemsico Concentrate MP.
9688-122 | 9688 | Chemsico Aerosol MP.
9688-149 | 9688 | Chemsico Insecticide Concentrate 57P.
9688-184 | 9688 | Chemsico Fire Ant Killer PD.
9688-200 | 9688 | Chemsico Insect Granules Formula C.
9688-201 | 9688 | Chemsico Home Insect Control G.
9688-202 | 9688 | Chemsico Insecticide Concentrate C.
9688-203 | 9688 | Chemsico FAK Formula C.
9688-257 | 9688 | Chemsico Insecticide Dust D.
9779-303 | 9779 | Trust 4EC.
9779-326 | 9779 | Trific 10G.
9779-341 | 9779 | Trific 2L.
10807-144 | 10807 | Misty EX-IT Emulsifiable Concentrate.
10807-149 | 10807 | Misty 2 Plus 2.
10807-205 | 10807 | Misty Repco Kill III.
10807-207 | 10807 | Misty EX-IT CF.
12455-72 | 12455 | 5% Warfarin Concentrate.
19713-50 | 19713 | Drexel Carbaryl 80S.
19713-53 | 19713 | Drexel Carbaryl 10D.
19713-84 | 19713 | Drexel Carbaryl 95 Sprayable.
19713-89 | 19713 | Drexel Carbaryl 2L.
19713-212 | 19713 | Drexel Carbaryl 10D (10% Sevin Dust).
19713-213 | 19713 | Drexel Carbaryl 5D (5% Sevin Dust).
19713-244 | 19713 | Drexel Carbaryl 80 Dust Base.
19713-363 | 19713 | Drexel Carbaryl 85 Sprayable.
34704-843 | 34704 | Amplify.
34704-921 | 34704 | Thiofan 8 Methyl 4.5 Fungicide.
34704-935 | 34704 | Dyna-Shield Captan Fungicide.
34704-980 | 34704 | Dyna-Shield Tebuconazole—Thiram Flowable Fungicide.
34704-996 | 34704 | Agsco B-4 Herbicide.
34704-1007 | 34704 | LPI Thio-M 70 WSB.
34704-1008 | 34704 | LPI Thio-M Ag 4.5F.
42750-227 | 42750 | Thiabendazole 98% MP.
45458-17 | 45458 | Trichlor 1″ Tablets.
45458-18 | 45458 | Trichlor 3″ Tablets.
45458-20 | 45458 | Dichlor Granular.
45458-21 | 45458 | 60% Non-Foaming Algaecide.
45458-22 | 45458 | 30% Non-Foaming Algaecide.
53871-3 | 53871 | Stimukil Fly Bait.
63838-27 | 63838 | Q-D50.
69681-32 | 69681 | Clor Mor Trigran.
70060-4 | 70060 | Aseptrol Dry Carpet Sanitizer 7L.
70299-3 | 70299 | Terracyte.
70506-281 | 70506 | Hawk-1 N/O G.
70506-550 | 70506 | Hi-Moly/Captan-D (Formerly Reg. No. 400-557).
70506-551 | 70506 | Kernel Guard Supreme (Formerly Reg. No. 400-560).
70506-577 | 70506 | Meta-Mil Fungicide (Formerly Reg. No. 400-485).
70506-589 | 70506 | Protector D (Formerly Reg. No. 400-562).
74530-76 | 74530 | Helosate 75 SG Pro Herbicide.
74530-82 | 74530 | Helm Sulfentrazone 4F-CA.
83529-22 | 83529 | Shar-Guard.
83529-33 | 83529 | Shotaran 4SC.
83529-39 | 83529 | Flufenacet 500 SC Herbicide.
83529-56 | 83529 | Sharda Metolachlor 86.4EC.
87373-19 | 87373 | ARG221.05.
89459-23 | 89459 | Prentox Prenfish Toxicant.
91234-201 | 91234 | A335.06.
AL070005 | 279 | Zoro Miticide/Insecticide.
AL190002 | 100 | A21472 Plus Vaporgrip Technology.
AR810050 | 5481 | Orthene 75 S Soluble Powder.
AZ030002 | 5481 | Orthene 97 Pellets.
AZ130001 | 12455 | Final Soft Bait.
AZ920008 | 5481 | Orthene 75 S Soluble Powder.
CA010013 | 73049 | Promalin Plant Growth Regulator Solution.
CA010014 | 73049 | Pro-Gibb 4% Liquid Concentrate.
CA010015 | 73049 | Pro-Gibb 4% Liquid Concentrate.
CA010028 | 5481 | Metam 426.
CA030014 | 66222 | Diasol AG 500.
CA070007 | 73049 | Retain Plant Growth Regulator Soluble Powder.
CA080023 | 73049 | Provide 10SG Plant Growth Regulator.
CA130007 | 12455 | Agrid3 Blox.
CA150003 | 10324 | Maquat 615-HD.
CA180003 | 73049 | Maxcel.
FL030001 | 73049 | Pro-Gibb 4% Liquid Concentrate.
FL030005 | 5481 | Ambush 25W Insecticide.
FL150004 | 66222 | Fluensulfone 480EC.
GA060006 | 62719 | Indar 75WSP.
GA070002 | 62719 | Indar 75WSP.
GA070003 | 279 | Zoro Miticide/Insecticide.
GA190003 | 7969 | Engenia Herbicide.
GA190006 | 100 | A21472 Plus Vaporgrip Technology.
HI080002 | 7173 | Rozol Pellets.
HI100001 | 73049 | Retain Plant Growth Regulator Soluble Powder.
HI130001 | 73049 | Protone SG.
IA190002 | 7969 | Engenia Herbicide.
IA200001 | 100 | A21472 Plus Vaporgrip Technology.
IA970001 | 100 | AATREX 4L Herbicide.
ID010016 | 5481 | Orthene 75 S Soluble Powder.
ID060025 | 5481 | Orthene 97.
ID070008 | 279 | Brigade 2EC Insecticide/Miticide.
ID080002 | 279 | Zoro Miticide/Insecticide.
ID090012 | 71512 | Omega 500F.
ID100003 | 10163 | Moncut 70-DF.
ID110001 | 7173 | Rozol Vole Bait.
ID140004 | 5481 | Parazone 3SL.
ID150009 | 5481 | Abba Ultra Miticide/Insecticide.
ID830009 | 100 | AATREX Nine—O Herbicide.
IL070005 | 100 | Dual Magnum.
IL100003 | 100 | Dual Magnum Herbicide.
IL110001 | 5481 | Dupont Assure II Herbicide.
IL190003 | 7969 | Engenia Herbicide.
IL190005 | 100 | A21472 Plus Vaporgrip Technology.
IN200001 | 7969 | Engenia Herbicide.
IN200004 | 100 | A21472 Plus Vaporgrip Technology.
KS030003 | 100 | AATREX 4L Herbicide.
KS060001 | 12455 | ZP Rodent Bait AG.
KS080002 | 12455 | ZP Rodent Oat Bait AG.
KS100002 | 33270 | Sentry Atrazine 4L Herbicide.
KS120004 | 12455 | ZP Rodent Oat Bait AG.
KS130004 | 33270 | US Sentry Atrazine 4L Herbicide.
KS130005 | 33270 | US Sentry Atrazine 90DF.
KS190001 | 7969 | Engenia Herbicide.
LA190003 | 100 | A21472 Plus Vaporgrip Technology.
MD080004 | 70506 | Dupont Manzate Pro-Stick Fungicide.
MI140010 | 279 | Aim EC.
MI180003 | 60063 | Echo 90DF.
MI180004 | 60063 | Echo 720.
MN030010 | 60063 | Echo 720 Agricultural Fungicide.
MN030011 | 60063 | Echo ZN Agricultural Fungicide.
MN090005 | 100 | Warrior II with Zeon Technology.
MN100002 | 71512 | Omega 500F.
MN120001 | 100 | Dual Magnum Herbicide.
MN190002 | 7969 | Engenia Herbicide.
MN190004 | 100 | A21472 Plus Vaporgrip Technology.
MN200002 | 7969 | Engenia Herbicide.
MN200004 | 100 | A21472 Plus Vaporgrip Technology.
MO000002 | 5785 | Meth-O-Gas 100.
MO080004 | 70506 | Dupont Manzate Pro-Stick Fungicide.
MS040005 | 279 | NUFOS 4E.
MS070002 | 279 | Zoro Miticide/Insecticide.
MT070004 | 279 | Brigade 2ec Insecticide/Miticide.
MT150001 | 5481 | Thimet 20-G.
NC080003 | 70506 | Penncozeb 75DF.
NC120002 | 66222 | Cotoran 4L.
NC150005 | 5481 | Parazone 3SL.
NC180005 | 7969 | Engenia Herbicide.
NC190002 | 100 | A21472 Plus Vaporgrip Technology.
NC190006 | 7969 | Engenia Herbicide.
NC920001 | 5481 | Counter Systemic Insecticide-Nematicide.
ND030016 | 60063 | Echo 720 Agricultural Fungicide.
ND030017 | 60063 | Echo ZN Agricultural Fungicide.
ND100002 | 71512 | Omega 500F.
ND190002 | 7969 | Engenia Herbicide.
ND190006 | 100 | A21472 Plus Vaporgrip Technology.
ND190008 | 7969 | Engenia Herbicide.
ND190009 | 100 | A21472 Plus Vaporgrip Technology.
ND200001 | 7969 | Engenia Herbicide.
ND200004 | 100 | A21472 Plus Vaporgrip Technology.
NE140002 | 1381 | Carnivore Herbicide.
NJ000005 | 5481 | Orthene 97 Pellets.
NJ960004 | 5481 | Orthene 75 S Soluble Powder.
NM150003 | 74530 | Helmquat 3SL.
NV050001 | 5481 | Discipline 2EC.
NV070006 | 279 | Brigade 2EC Insecticide/Miticide.
NV080001 | 279 | Zoro Miticide/Insecticide.
NV090001 | 5481 | Abba 0.15EC.
NY080010 | 70506 | Kraken.
NY080014 | 70506 | Redwing.
NY180002 | 5481 | Deadline Bullets.
OH000007 | 5481 | Orthene 97 Pellets.
OH110002 | 100 | Dual Magnum Herbicide.
OK190001 | 7969 | Engenia Herbicide.
OK830003 | 100 | AATREX 4L Herbicide.
OK830029 | 100 | AATREX 4L Herbicide.
OK830030 | 100 | AATREX Nine-0.
OK920007 | 100 | AATREX 4L Herbicide.
OK920008 | 100 | AATREX Nine-0.
OR040008 | 100 | AATREX Nine-0 Herbicide.
OR050005 | 5481 | Discipline 2EC.
OR050006 | 100 | Touchdown Hitech.
OR140009 | 5481 | Parazone 3SL.
OR150001 | 70506 | Lifeline Herbicide.
OR150011 | 5481 | Abba Ultra Miticide/Insecticide.
PA170002 | 1381 | Dimetric DF 75%.
PA930004 | 5481 | Orthene 75 S Soluble Powder.
PR110002 | 5481 | Dupont Assure II Herbicide.
PR910002 | 5481 | Orthene 75 S Soluble Powder.
SD190002 | 7969 | Engenia Herbicide.
SD190006 | 100 | A21472 Plus Vaporgrip Technology.
TN070002 | 279 | Zoro Miticide/Insecticide.
TN080007 | 70506 | Dupont Manzate Pro-Stick Fungicide.
TN080009 | 70506 | Penncozeb 75DF.
TN140003 | 70506 | Manzate Pro-Stick Fungicide.
TX000006 | 100 | Tilt Fungicide.
TX080004 | 279 | Command 3ME Herbicide.
TX100006 | 5481 | Orthene Turf, Tree & Ornamental 97 Spray.
TX170007 | 67690 | Captain Liquid Copper Algaecide.
TX190002 | 7969 | Engenia Herbicide.
UT070006 | 279 | Brigade 2ec Insecticide/Miticide.
UT090002 | 279 | Zoro.
UT140003 | 59639 | Zeal WP Miticide.
UT170001 | 5481 | Parazone 3SL Herbicide.
VA080004 | 70506 | Dupont Manzate Pro-Stick Fungicide.
VA870007 | 5481 | Orthene 75 S Soluble Powder.
VA920003 | 5481 | Orthene 75 S Soluble Powder.
VA930005 | 5481 | Orthene 75 S Soluble Powder.
WA070017 | 279 | Brigade 2EC Insecticide/Miticide.
WA080003 | 279 | Zoro Miticide/Insecticide.
WA120004 | 7969 | Ignite.
WA150005 | 74530 | Ro-Neet Herbicide.
WA150006 | 74530 | Ro-Neet Herbicide.
WA200002 | 34704 | Atrazine 4L.
WA930001 | 5481 | Dupont Krovar I DF Herbicide.
WI100001 | 60063 | Echo 720 Agricultural Fungicide.
WI100002 | 60063 | Echo ZN.
WI150001 | 279 | Aim EC.
WI160003 | 60063 | Echo ZN.
WI160004 | 60063 | Echo 720.
WI160005 | 60063 | Echo 90DF.
WI160006 | 71512 | Omega 500F.

Table 2 of this unit includes the names and addresses of record for all registrants of the products in Table 1 of this unit, in sequence by EPA company number. This number corresponds to the first part of the EPA registration numbers of the products listed in this unit.

Table 2—Registrants Requesting Voluntary Cancellation
EPA company No. | Company name and address
100 | Syngenta Crop Protection, LLC, 410 Swing Road, P.O. Box 18300, Greensboro, NC 27419.
228 | Nufarm Americas, Inc., 4020 Aerial Center Parkway, Suite 101, Morrisville, NC 27560.
241 | BASF Corporation, P.O. Box 13528, Research Triangle Park, NC 27709.
279 | FMC Corporation, 2929 Walnut Street, Philadelphia, PA 19104.
400 | Macdermid Agricultural Solutions, Inc., 630 Freedom Business Center, Suite 402, King of Prussia, PA 19406.
499 | BASF Corporation, P.O. Box 13528, Research Triangle Park, NC 27709.
524 | Bayer CropScience LP, 800 N Lindbergh Blvd., St. Louis, MO 63141.
538 | The Scotts Company, 14111 Scottslawn Road, Marysville, OH 43041.
1021 | McLaughlin Gormley King Company, d/b/a MGK, 7325 Aspen Lane N, Minneapolis, MN 55428.
1381 | Winfield Solutions, LLC, P.O. Box 64589, St. Paul, MN 55164.
1677 | Ecolab, Inc., 1 Ecolab Place, St. Paul, MN 55102.
1706 | NALCO Company, LLC, A Subsidiary of Ecolab, Inc., 1601 West Diehl Road, Naperville, IL 60563.
1839 | Stepan Company, 22 W Frontage Road, Northfield, IL 60093.
2596 | The Hartz Mountain Company, 400 Plaza Drive, Secaucus, NJ 07094.
2693 | International Paint LLC, 6001 Antoine Drive, Houston, TX 77091.
2724 | Wellmark International, 1501 E Woodfield Road, Suite 200 West, Schaumburg, IL 60173.
3432 | N. Jonas @ Co., Inc., P.O. Box 425, Bensalem, PA 19020.
3862 | ABC Compounding Co., Inc. P.O. Box 16247, Atlanta, GA 30321.
5383 | Troy Chemical Corp., c/o. Troy Corporation, 8 Vreeland Road, Florham Park, NJ 07932.
5481 | AMVAC Chemical Corporation, 4695 MacArthur Court, Suite 1200, Newport Beach, CA 92660.
5736 | Diversey, Inc. P.O. Box 19747, Charlotte, NC 28219.
5785 | LANXESS Corporation, 111 RIDC Park West Drive, Pittsburgh, PA 15275.
7173 | Liphatech, Inc., 3600 W Elm Street, Milwaukee, WI 53209.
7401 | Voluntary Purchasing Groups, Inc., 230 FM 87, Bonham, TX 75418.
7969 | BASF Corporation, P.O. Box 13528, Research Triangle Park, NC 27709.
8329 | Clarke Mosquito Control Products, Inc., 675 Sidwell Court, St. Charles, IL 60174.
8660 | United Industries Corp., D/B/A SYLORR Plant Corp., P.O. Box 142642, St. Louis, MO 63114.
9688 | CHEMSICO, A Division of United Industries Corp., One Rider Trail Plaza Drive, Suite 300, Earth City, MO 63045.
9779 | Winfield Solutions, LLC, P.O. Box 64589, St. Paul, MN 55164.
10163 | Gowan Company, 370 S Main Street, Yuma, AZ 85366.
10324 | Mason Chemical Company, 9075 Centre Pointe Drive, Suite 400, West Chester, OH 45069.
10807 | AMREP, Inc., 3330 Cumberland Blvd., Suite 700, Atlanta, GA 30339.
12455 | Bell Laboratories, Inc., 3699 Kinsman Blvd., Madison, WI 53704.
19713 | Drexel Chemical Company, P.O. Box 13327, Memphis, TN 38113.
33270 | Winfield Solutions, LLC, P.O. Box 64589, St. Paul, MN 55164.
34704 | Loveland Products, Inc., P.O. Box 1286, Greeley, CO 80632.
42750 | Albaugh, LLC, 1525 NE 36th Street, Ankeny, IA 50021.
45458 | Haviland Consumer Products, Inc., D/B/A Baleco International, 421 Ann Street NW, Grand Rapids, MI 49504.
53871 | Troy Chemical Corp., c/o. Troy Corporation, 8 Vreeland Road, Florham Park, NJ 07932.
59639 | Valent U.S.A. LLC, P.O. Box 5075, San Ramon, CA 94583.
60063 | SIPCAM Agro USA, Inc., 2525 Meridian Pkwy., Suite 350, Durham, NC 27713.
62719 | Corteva Agrosciences LLC, 9330 Zionsville Road, Indianapolis, IN 46268.
63838 | Enviro Tech Chemical Services, Inc., 500 Winmoore Way, Modesto, CA 95358.
66222 | Makhteshim Agan of North America, Inc., D/B/A ADAMA, 3120 Highwoods Blvd., Suite 100, Raleigh, NC 27604.
67690 | SEPRO Corporation, 11550 N Meridian Street, Suite 600, Carmel, IN 46032.
69681 | Allchem Performance Products, Inc., 6010 NW First Place, Gainesville, FL 32607.
70060 | BASF Corporation, 100 Park Avenue, Florham Park, NJ 07932.
70299 | Biosafe Systems, LLC, 22 Meadow Street, East Hartford, CT 06108.
70506 | UPL NA, Inc., 630 Freedom Business Center, Suite 402, King of Prussia, PA 19406.
71512 | ISK Biosciences Corporation, 7470 Auburn Road, Suite A, Concord, OH 44077.
73049 | Valent Biosciences, LLC, 1910 Innovation Way, Suite 100, Libertyville, IL 60048.
74530 | Helm Agro US, Inc., 401 E Jackson Street, Suite 1400, Tampa, FL 33602.
83529 | Sharda USA LLC, c/o Wagner Regulatory Associates, Inc., P.O. Box 640, Hockessin, DE 19707.
87373 | Argite, LLC, 5000 Centregreen Way, Suite 100, Cary, NC 27513.
89459 | Central Garden & Pet Company, 1501 East Woodfield Road, Suite 200W, Schaumburg, IL 60173.
91234 | Atticus, LLC, 5000 Centregreen Way, Suite 100, Cary, NC 27513.

Table 3 of this unit lists all the FIFRA section 3 and section 24(c) registrations which were canceled for non-payment of the 2020 maintenance fee. These registrations have been canceled by order on December 21, 2020, and without hearing.

Table 3—FIFRA Section 3 and Section 24(c) Registrations Cancelled for Non-Payment of 2020 Maintenance Fee
Registration No. | Company No. | Product name
70-223 | 70 | RIGO EXOTHERM TERMIL.
192-210 | 192 | DEXOL SYSTEMIC GRANULES FOR PLANT INSECT CONTROL.
192-221 | 192 | ULTRASTOP HOME INSECT KILLER II.
748-285 | 748 | PITTABS-G70.
1022-590 | 1022 | WOODGUARD XL.
1043-124 | 1043 | HASTE-SSD-COMPONENT B.
1043-125 | 1043 | HASTE-SSD—COMPONENT A.
1769-159 | 1769 | FENOCIL III.
3095-20201 | 3095 | PIC BORIC ACID ROACH KILLER III.
5185-323 | 5185 | BIOGUARD MASTER LITHIUM HYPOCHLORITE.
5464-1 | 5464 | BENZ-ALL TINTED.
6466-12 | 6466 | KITCHEN KLENZER.
6959-95 | 6959 | CESSCO AGRO-5.
7675-1 | 7675 | FORMULA 2.
9215-11 | 9215 | ALL CLEAR 3” TABLETS JUMBO CHLORINATING TABLETS2.
9279-3 | 9279 | SANTIMINE—150.
9404-55 | 9404 | SUNNILAND OUR BEST QUALITY WEED & FEED.
9404-56 | 9404 | SUNNILAND WEED & FEED FOR ST. AUGUSTINE LAWNS.
10350-60 | 10350 | VWX-42 TECHNOLOGY PROPYLENE GLYCOL MONOCAPRYLATE.
10350-61 | 10350 | VWX-42 Technology PEP1.
10350-64 | 10350 | VWX-42 TECHNOLOGY GLYCEROL MONOCAPRATE.
10350-65 | 10350 | VWX-42 TECHNOLOGY GLYCEROL MONOLAURATE.
10350-66 | 10350 | VWX-42 TECHNOLOGY PROPYLENE GLYCOL MONOCAPRATE.
10350-68 | 10350 | VWX-42 TECHNOLOGY GLYCEROL MONOCAPRYLATE.
11930-2 | 11930 | OMEGO MIST 30-30 MAC.
11930-3 | 11930 | OMEGO MIST OSC.
11930-12 | 11930 | OPTI MIST 30 30 ULV E.C.
39775-3 | 39775 | FUMITE PERMETHRIN SMOKE.
42177-2 | 42177 | OLYMPIC KLEAR OUT.
42177-26 | 42177 | OLYMPIC GRANULAR 90.
43759-20001 | 43759 | AB-CHEM.
44446-64 | 44446 | QUEST REVENGE INSECT KILLER.
44891-13 | 44891 | SEA HAWK PREMIUM QUALITY TROPIKOTE BIOCIDE PLUS SLIME RESISTANT ANTIFOULING COA.
44891-14 | 44891 | SEA HAWK PREMIUM QUALITY CUKOTE BIOCIDE PLUS SLIME RESISTANT ANTIFOULING COATIN.
45309-5 | 45309 | AQUA CLEAR RAPID SHOCK.
45309-13 | 45309 | SPA CLEAR SPA CHLOR FORMULA II.
45309-58 | 45309 | AQUA CHLOR CHLORINATING SANITIZER.
46197-2 | 46197 | Anti-Mosquito Paint.
48242-1 | 48242 | RAM GRANULAR.
48242-2 | 48242 | RAM 1″ TABLETS.
48242-4 | 48242 | RAM 3″ TABLETS.
50073-2 | 50073 | AGRO ROACH TABLETS.
50600-4 | 50600 | SHEPARD BROTHERS SKLORON 500.
50600-10 | 50600 | WASCO BRAND WASACLOR.
51517-10 | 51517 | BIOLINK FUNGICIDE.
52374-13 | 52374 | SODIUM HYPOCHLORITE 12.5% MUP.
53254-1 | 53254 | OXIDAN TCA.
53254-3 | 53254 | OXIDAN DCN/W.
53345-14 | 53345 | ERCOPURE 25.
53345-19 | 53345 | SODIUM CHLORITE SOLUTION 7.5.
53345-20 | 53345 | SODIUM CHLORITE SOLUTION 15.
53345-21 | 53345 | ERCOPURE 37.
53345-23 | 53345 | ERCOPURE 31.
53431-14 | 53431 | CHEMCAL 1512.
53575-42 | 53575 | ISOMATE CM MIST.
53575-53 | 53575 | ISOMATE CM/LR Mist.
54137-1 | 54137 | CLANDOSAN 618.
54705-10 | 54705 | BI-CARB OLD FASHIONED FUNGICIDE.
55392-3 | 55392 | MANNA PRO FLY-B-GONE MINERAL BLOCK.
56228-32 | 56228 | M-44 CYANIDE CAPSULES ARCTIC FOX.
56652-1 | 56652 | CHLORINE GAS (LIQUEFIED UNDER PRESSURE) NON-FLAMMABLE.
58779-5 | 58779 | ENVIROSYSTEMS ETHYLENE OXIDE STERILANT.
59106-10 | 59106 | Bio-Clear G50A Antimicrobial.
64137-9 | 64137 | MYCOSTOP G BIOFUNGICIDE.
64137-11 | 64137 | PRESTOP.
64715-1 | 64715 | VEDEXIL-DM/K.
66750-1 | 66750 | DELSACLOR 55.
66750-2 | 66750 | DELSACLOR 60.
67071-37 | 67071 | MICROCARE ITL.
67071-44 | 67071 | ACTICIDE IM.
67071-85 | 67071 | ACTICIDE LPN 1.
67212-1 | 67212 | BBJ MICROBIOCIDE.
67262-12 | 67262 | RWP MASTER LITHUIM HYPOCHLORITE.
67727-5 | 67727 | 1,4PEEP.
68338-2 | 68338 | Lavo 6.
68338-7 | 68338 | Lavo 8.
68338-8 | 68338 | Lavo 9.
69836-1 | 69836 | ECOSHARP WEED & GRASS KILLER.
69836-2 | 69836 | ECOSHARP WEED & GRASS KILLER READY TO USE.
70127-13 | 70127 | Mitaxion EC.
70127-14 | 70127 | Mitaxion EX G.
70127-15 | 70127 | Mitaxion G.
70127-16 | 70127 | MITAXION TECHNICAL.
70870-3 | 70870 | AGRICURE RTU.
71532-7 | 71532 | LG PERMETHRIN TECHNICAL PH INSECTICIDE.
71532-23 | 71532 | LAMBDASTAR 9.7% CS.
71532-32 | 71532 | PERMETHRIN MUP INSECTICIDE.
71788-1 | 71788 | DRI-OUT INSECTICIDE.
71814-1 | 71814 | STERCID (Reinstated in 2019 due to EPA error and cancelled correctly in 2020).
72159-7 | 72159 | GLY PHO-SEL PRO 41% HERBICIDE.
72159-13 | 72159 | AGRISEL CARBAIT 5.
72159-14 | 72159 | AGRISEL GLY PHO-SEL PRO 41% HERBICIDE WITH SURFACTANT.
73660-1 | 73660 | HEBEI JIHENG 56.
73660-2 | 73660 | HEBEI JIHENG 60.
73660-3 | 73660 | HEBEI JIHENG 90.
73660-4 | 73660 | HEBEI JIHENG 56 SHOCK.
73660-5 | 73660 | HEBEI JIHENG 60 SHOCK.
73660-6 | 73660 | HEBEI JIHENG POOL AND SPA.
73771-6 | 73771 | FUNGI-PHITE DF MUP.
73771-7 | 73771 | FUNGI-PHITE DF.
73771-8 | 73771 | MANCO-PHITE DF.
73771-9 | 73771 | FUNGI-PHITE MUP.
74032-1 | 74032 | S-METHOPRENE TECHNICAL R-ST SM INSECT GROWTH REGULATOR.
74267-5 | 74267 | PHOMA TECH.
74267-6 | 74267 | PHOMA H.
74267-7 | 74267 | PHOMA P.
74655-28 | 74655 | DREW 3025 PRECURSOR.
74681-14 | 74681 | SPC 99.
74681-15 | 74681 | SHELTER ISLAND.
74779-12 | 74779 | MYCLOBUTANIL 20 EW.
81927-14 | 81927 | ALLIGARE CLOPYRALID 3.
81927-27 | 81927 | CRUISE CONTROL.
81927-46 | 81927 | ALLIGARE ORYZALIN 4.
81927-47 | 81927 | ALLIGARE DICAMBA DGA 4SC.
81927-48 | 81927 | ALLIGARE TRICLOPYR 4E.
81927-52 | 81927 | ALLIGARE 8% COPPER.
82542-4 | 82542 | TEBUCONAZOLE TECHNICAL.
82542-9 | 82542 | TEBUCONAZOLE 45 DF FUNGICIDE.
82542-27 | 82542 | TEBUCONAZOLE 3.6F FUNGICIDE.
82542-30 | 82542 | TEBUCONAZOLE 3.6F T&O FUNGICIDE.
82542-31 | 82542 | TEBUCONAZOLE 3.6F AG FUNGICIDE.
82544-1 | 82544 | SILVER ASSEMBLY WITH WASHING MACHINE.
82544-2 | 82544 | SILVER ASSEMBLY.
82760-8 | 82760 | BCS 3252A.
82760-10 | 82760 | BCS3152A.
83451-20 | 83451 | BELLACIDE 303.
83451-26 | 83451 | BELLACIDE 150.
83936-1 | 83936 | HEZE HUAYI 56 DISINFECTING GRANULES.
83936-5 | 83936 | HEZE HUAYI 56 EUP CHLORINATING COMPOSITION.
84229-12 | 84229 | TIDE TEBU 3.6F FOLIAR FUNGICIDE.
84545-4 | 84545 | PERADOX HC SOLUTION PART A.
84545-5 | 84545 | PERADOX HC ACTIVATOR SOLUTION PART B.
84545-10 | 84545 | STERIPLEX SD ACTIVATOR (PART B).
84545-11 | 84545 | STERIPLEX SD (PART A).
84846-8 | 84846 | CARBON POWER-CA.
84846-10 | 84846 | OPTIFY 500.
84878-5 | 84878 | CITRIODIOL.
85724-7 | 85724 | BANDIT 480 SC.
85724-8 | 85724 | TRESOR 500 EC.
85748-1 | 85748 | SULFOCAT BK 50.
86130-2 | 86130 | FLOWCHEM FCAF-001.
86130-4 | 86130 | FLOWCHEM FCAF-014.
87506-1 | 87506 | ENERFAB SC CARTRIDGE.
87584-4 | 87584 | ZENITH GREEN 388.
87766-1 | 87766 | ANT ZAP.
87845-6 | 87845 | MCC 3-Way Fungicide.
88341-5 | 88341 | PURECIDE 15.
88341-6 | 88341 | PURECIDE 7.5.
88346-8 | 88346 | POOLINE BROMINATING TABLETS.
88373-3 | 88373 | DISIN-VET.
88810-1 | 88810 | OBLITIROOT.
89187-4 | 89187 | MD-CU29 4.
89461-1 | 89461 | SHINER CHLORINATING TABLETS.
90132-2 | 90132 | hychloHSD.
90332-1 | 90332 | CY COP 6-30 WDG FUNGICIDE.
90332-2 | 90332 | cY MANCO 4-40 WDG FUNGICIDE.
90470-1 | 90470 | ENO CHLOR CAL HYPO GRANULES.
90607-3 | 90607 | ASEPTICSURE OXIDATIVE CATALYST.
90643-1 | 90643 | MULTIMICRO SALT.
91149-1 | 91149 | P-6980C.
91209-4 | 91209 | OXY 2.
91232-2 | 91232 | FD PROPICONAZOLE 41.8 EC.
91232-3 | 91232 | FD Tebuconazole 3.6F.
91620-1 | 91620 | Indole-3-Butyric Acid Technical.
92060-1 | 92060 | TRION SDIC DIHYDRATE TECHNICAL.
92115-2 | 92115 | FBN Metri. 75% DF 1.
92115-4 | 92115 | FBN Metri. 75% DF 2.
92115-5 | 92115 | FBN Sulfentrazone 4F.
92115-10 | 92115 | FBN 200.
92115-11 | 92115 | FBN 118.
92115-12 | 92115 | FBN 20.
92115-19 | 92115 | FBN AZOXYPROP.
92115-20 | 92115 | FBN AZOXYSTROBIN 2SL.
92374-1 | 92374 | EFT-70/30.
92374-2 | 92374 | EFT-90/10.
92822-1 | 92822 | SUNSYS VALLOCOATAM-01.
92876-1 | 92876 | Lyte Green Daily.
93236-1 | 93236 | Roundup PRO Herbicide.
93236-2 | 93236 | Roundup Custom for Aquatic & Terrestrial Use.
93236-3 | 93236 | Roundup PROMAX Herbicide.
93236-4 | 93236 | Roundup QuikPRO Herbicide.
93236-5 | 93236 | Ranger PRO Herbicide.
93236-6 | 93236 | Roundup PRO Concentrate Herbicide.
93236-7 | 93236 | SC 78536 Herbicide.
93809-2 | 93809 | Axill Solutions Fluazinam 500SC.
94485-1 | 94485 | COMPANION LIQUID BIOLOGICAL FUNGICIDE.
94485-2 | 94485 | Companion Biological Fungicide Wettable Powder.
94572-2 | 94572 | HALOPURE WATER PURIFIER INSERT.
CA120004 | 90362 | METHYL BROMIDE 100.
FL040001 | 63935 | DUPONT ESCORT HERBICIDE.
HI160001 | 59807 | MARATHON 1% GRANULAR GREENHOUSE AND NURSERY INSECTICIDE.
ME940006 | 9339 | FLEXGARD X1 WATERBASE COPPER PAINT.
PA180001 | 65564 | JMS STYLET-OIL.
PR160001 | 59807 | MARATHON 1% GRANULAR GREENHOUSE AND NURSERY INSECTICIDE.

Table 4 of this unit lists all the FIFRA section 3 and section 24(c) registrations which were canceled for non-payment of the 2021 maintenance fee. These registrations have been canceled by order on January 18, 2022, and without hearing.

Table 4—FIFRA Section 3 and Section 24(c) Registrations Cancelled for Non-Payment of 2021 Maintenance Fee
Registration No. | Company No. | Product name
527-105 | 527 | ML-27.
806-17 | 806 | AVON SKIN-SO-SOFT SSS BUG GUARD PLUS IR3535 INSECT REPELLENT SPRAY GENTLE BREEZ.
806-18 | 806 | AVON SKIN-SO-SOFT SSS BUG GUARD PLUS IR3535 INSECT REPELLENT SPF 15 SUNSCREEN S.
806-20 | 806 | AVON SKIN-SO-SOFT BUG GUARD PLUS IR3535 EXPEDITION INSECT REPELLENT.
806-21 | 806 | AVON SKIN-SO-SOFT SSS BUG GUARD PLUS IR3535 EXPEDITION INSECT REPELLENT SPRAY.
806-22 | 806 | AVON SKIN-SO-SOFT SSS BUG GUARD PLUS IR3535 ACTIVE INSECT REPELLENT GENTLE BREE.
806-23 | 806 | AVON SKIN-SO-SOFT SSS BUG GUARD PLUS IR3535 ACTIVE INSECT REPELLENT GENTLE BREE.
806-24 | 806 | AVON SKIN-SO-SOFT SSS BUG GUARD PLUS IR3535 INSECT REPELLENT SPF 15 SUNSCREEN.
806-27 | 806 | AVON SKIN-SO-SOFT SSS BUG GUARD PLUS IR3535 INSECT REPELLENT UNSCENTED.
1543-3 | 1543 | WFY1502.
2382-185 | 2382 | EFFIPRO TOPICAL SOLUTION FOR DOGS.
2382-186 | 2382 | EFFIPRO TOPICAL SOLUTION FOR CATS.
2382-187 | 2382 | EFFITIX TOPICAL SOLUTION FOR DOGS.
2686-3 | 2686 | LIQUID CHLORINE.
2935-311 | 2935 | SUPERIOR SPRAY OIL.
2935-398 | 2935 | BT 320 DUST.
2935-399 | 2935 | BT 320 SULFUR 25 DUST.
2935-405 | 2935 | SUPREME OIL.
2935-427 | 2935 | APRON FLOWABLE.
2935-458 | 2935 | APRON TL.
2935-484 | 2935 | CAPTAN 4000 FLOWABLE SEED PROTECTANT.
2935-501 | 2935 | SPORAX.
2935-504 | 2935 | SIGNAL DUSTING SULFUR.
2935-511 | 2935 | LV 4.
2935-512 | 2935 | AMINE 4 D.
2935-534 | 2935 | SNOW PLUS.
2935-536 | 2935 | CLEAN CROP CAPTAN 7.5 DUST FUNGICIDE.
2935-542 | 2935 | VOLCK SUPREME SPRAY.
2935-544 | 2935 | VALENT AG BASE LITE NEUTRAL.
2935-553 | 2935 | BASE CAMP LV 6.
2935-558 | 2935 | NU-FLOW CT.
4091-16 | 4091 | FG1.
4091-17 | 4091 | FG2.
6198-5 | 6198 | FORMULA ISO B-T-F ISOCYANURATE SANITIZER.
6198-7 | 6198 | B-T-F ISO-SAN DISINFECTANT-SANITIZER.
6218-24 | 6218 | PERMACIDE PLUS.
7211-10 | 7211 | PHENEEN SOLUTION.
8698-3 | 8698 | PROPET FLEA & TICK DOG SHAMPOO.
8730-68 | 8730 | HERCON DISRUPT MICRO-FLAKE VBN.
8996-10 | 8996 | SIERRA INDUSTRIAL BLEACH 12.5% FOR MANUFACTURING USE.
9768-12 | 9768 | T CHEM T-SAN SANITIZER AND DISINFECTANT.
13283-26 | 13283 | RAINBOW INSECT TAG.
33427-8 | 33427 | MITEO MAX II EC.
35255-20002 | 35255 | BPS-POOL-CLEAR SODIUM HYPOCHLORITE SOLUTION.
40975-20004 | 40975 | ACRO-KLO.
41846-20001 | 41846 | COL-CHLOR (SODIUM HYPOCHLORITE).
43813-15 | 43813 | SAFETRAY P.
43813-16 | 43813 | WOCOSEN 250 EC.
44891-16 | 44891 | SEA HAWK MISSION BAY COPPER-FREE ANTIFOULING COATING.
44891-17 | 44891 | COPPER FREE WATERBORNE ANTIFOULING COATING.
44891-28 | 44891 | AQUAGARD II ANTIFOULING SPRAY PAINT FOR OUTDRIVE & OUTBOARDS.
44891-29 | 44891 | ARMOR ANTIFOULANT.
45337-6 | 45337 | WINTER TREAT ALGICIDE.
46851-10 | 46851 | PROSPRAY TM WIPES, DISINFECTANT TOWELETTES.
47091-12 | 47091 | SM-10P INDUSTRIAL MICROBIOCIDE.
47265-6 | 47265 | NOW MUP.
47332-7 | 47332 | STAY-CLEAN I/E.
53575-39 | 53575 | ISOMATE-OFM RING.
53575-47 | 53575 | ISOMATE NOW MIST.
57242-7 | 57242 | Asulam 4SL.
62097-30 | 62097 | FALGRO LV.
62495-1 | 62495 | EXCELEX BLEACH.
62495-2 | 62495 | PETRA CHLOR XTRA.
62495-20002 | 62495 | SODIUM HYPOCHLORITE SOL. 10%.
62577-6 | 62577 | PRETTY PLEASE BUG KILL SHELF PAPER.
63269-2 | 63269 | TMB 471W.
65460-1 | 65460 | DIATOMIC EARTH.
66550-1 | 66550 | BIRD SHIELD REPELLENT CONCENTRATE.
67071-82 | 67071 | ACTICIDE SR 8278.
67071-90 | 67071 | ACTICIDE LA 1205 M.
67071-92 | 67071 | ACTICIDE LPN 3-F.
67071-106 | 67071 | ACTICIDE GT 1-F.
67071-116 | 67071 | ACTICIDE SR 6394.
67702-10 | 67702 | SULFUR FUNGICIDE RTU.
67702-48 | 67702 | IRONWORXX SLUG AND SNAIL GEL BAIT.
68543-2 | 68543 | BENGAL INDOOR DRI-FOGGER II.
68543-8 | 68543 | BENGAL WASP & HORNET KILLER 93.
68543-17 | 68543 | BENGAL ROACH & ANT SPRAY IV.
68543-35 | 68543 | BENGAL PRODUCT 2007A.
68592-1 | 68592 | ADVANTAGE 1000.
69470-42 | 69470 | ClearControl Glyphosate 41% Plus.
69470-43 | 69470 | ClearControl Glyphosate 53.8%.
70087-2 | 70087 | ZOONOCIDE FILTER MEDIA.
70252-8 | 70252 | NATION'S AG METALAXYL TECHNICAL FOR SEED TREATMENT.
71297-7 | 71297 | AF-600.
71297-8 | 71297 | A17492F.
71297-11 | 71297 | AF-2005.
71532-24 | 71532 | METASTAR 2.65 SC.
72112-4 | 72112 | GLYPHOSATE PRO 4TM.
72159-20 | 72159 | Agrisel Bifenthrin Pro 2E Insecticide.
72315-4 | 72315 | SODIUM HYPOCHLORITE 9.
72959-11 | 72959 | DEGESCH MAGTOXIN GRANULES.
73178-1 | 73178 | BIOPLUS ST.
74681-4 | 74681 | COPPER PRO SCX.
80286-23 | 80286 | DCEPT CLM PLUS.
80286-28 | 80286 | SPLAT FAW GL3.
80286-30 | 80286 | SPLAT FAW GL5.
81927-19 | 81927 | ALLIGARE PANORAMIC 2SL HERBICIDE.
81987-1 | 81987 | CHLORINE LIQUEFIED GAS UNDER PRESSURE.
84377-2 | 84377 | BELLICIDE ISO.
84602-1 | 84602 | MOLDBUSTER.
84610-2 | 84610 | POLYGUARD-NSPW MASTER BATCH.
85290-1 | 85290 | MICROGUARD I.
85290-2 | 85290 | MICROGUARD II.
85290-3 | 85290 | MICROGUARD III.
85290-4 | 85290 | MICROGUARD IV.
85290-5 | 85290 | MICROGUARD V.
85604-1 | 85604 | ECO BRASS.
85678-52 | 85678 | Acephate Technical.
85724-3 | 85724 | LAMBDAKO 120EC.
85724-9 | 85724 | AKOFOL 80 WG.
85787-1 | 85787 | Deltamethrin 0.4% Incorporated Polyethylene Screen.
87845-8 | 87845 | DELETE ULTRA.
87966-1 | 87966 | DICHLOR 56 GRANULAR.
87978-1 | 87978 | HELICOVERPA ZEA NUCLEOPOLYHEDROVIRUS.
87978-3 | 87978 | SPODOPTERA FRUGIPERDA MULTIPLE NUCLEOPOLYHEDROVIRUS—3AP2.
88141-1 | 88141 | DISINFX.
88343-1 | 88343 | QUICK 75.
88615-1 | 88615 | GREATAP 126.
88951-1 | 88951 | PANAX 500 25.
88951-2 | 88951 | PANAX 500 50.
88951-3 | 88951 | PANAX 100 75.
89101-1 | 89101 | TEFCITE.
89187-1 | 89187 | MD-CU29 1.
89187-2 | 89187 | MD-CU29 2.
89187-3 | 89187 | MD-CU29 3.
89187-5 | 89187 | MD-CU29 HVAC ANTIMICROBIAL COPPER.
89386-1 | 89386 | COMPLETE CHOICE FLEA POWDER.
90234-1 | 90234 | 25% INSECT REPELENT SPRAY.
90234-2 | 90234 | 7% INSECT REPELLENT SPRAY.
90234-3 | 90234 | 15% INSECT REPELLENT AEROSOL.
90234-4 | 90234 | 25% INSECT REPELLENT AEROSOL.
90253-1 | 90253 | Homebright ORIGINAL MOTH BALLS.
90714-1 | 90714 | CLEAR CHOICE LIQUID SHOCK TREATMENT.
90736-1 | 90736 | PROPICONAZOLE TECH 95%.
90736-2 | 90736 | TEBUCONAZOLE TECH.
90784-4 | 90784 | VISTA CLEAR SPRAY OIL.
90863-1 | 90863 | SURPHACE PHRESH CONCENTRATE.
91300-10 | 91300 | P171.03 for Dogs.
91300-11 | 91300 | P171.04 for Dogs.
92032-2 | 92032 | Nemasan MU.
92515-1 | 92515 | Egret Bed Net.
92647-14 | 92647 | Tigris Clethodim.
92647-17 | 92647 | Tigris Bifen.
92647-21 | 92647 | Tigris Lambda.
93363-1 | 93363 | MITOGROW TM PELLETS 3-IA 10%.
93373-3 | 93373 | BODYGUARD INSECT REPELLENT SPRAY.
94300-1 | 94300 | Sutro—Sanitizer Puck.
AR100003 | 95290 | CURFEW.
AZ970005 | 95290 | TELONE EC.
ID150004 | 71711 | MONCUT.
IN200005 | 70051 | GEMSTAR LC.
IN200006 | 70051 | AGREE WG.
KS040003 | 11773 | CORNBELT ATRAZINE 4L.
KY190001 | 70051 | GEMSTAR LC.
KY190002 | 70051 | BMJ WG.
KY190003 | 70051 | AGREE WG.
KY190004 | 70051 | CX-9032.
KY190041 | 87978 | HELIGEN.
LA060006 | 95290 | CURFEW.
MN110005 | 2749 | HALOSULFURON 75WDG HERBICIDE.
MS050016 | 95290 | CURFEW.
MS060002 | 73139 | SABRECHLOR 25.
ND110009 | 2749 | HALOSULFURON 75WDG HERBICIDE.
NE110003 | 2749 | HALOSULFURON 75WDG HERBICIDE.
NM980001 | 95290 | TELONE EC.
PA130002 | 82074 | MYCOTROL ES.
PA190003 | 57538 | GOLDEN PEST SPRAY OIL.
TN100002 | 95290 | CURFEW.
TX060005 | 95290 | CURFEW.
TX970008 | 95290 | TELONE EC.

IV. Summary of Public Comments Received and Agency Response to Comments

During the public comment period provided, EPA received no comments in response to the December 7, 2021, Federal Register notice announcing the Agency's receipt of the requests for voluntary cancellations of products listed in Table 1 of Unit III.

V. Cancellation Order

Pursuant to FIFRA section 6(f)(7 U.S.C. 136d(f)), EPA hereby approves the requested cancellations of the registrations identified in Table 1 of Unit III. Accordingly, the Agency hereby orders that the product registrations identified in Table 1 of Unit III, are canceled. The effective date of the cancellations that are the subject of this notice is February 23, 2022. Any distribution, sale, or use of existing stocks of the products identified in Table 1 of Unit III, in a manner inconsistent with any of the provisions for disposition of existing stocks set forth in Unit VII, will be a violation of FIFRA.

VI. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of December 7, 2021 (86 FR 69247) (FRL-9277-01). The comment period closed on January 6, 2022.

VII. Provisions for Disposition of Existing Stocks

Existing stocks are those stocks of registered pesticide products which are currently in the United States, and which were packaged, labeled, and released for shipment prior to the effective date of the cancellation action. The existing stocks provisions for the products subject to this order are as follows.

The registrants may continue to sell and distribute existing stocks of products listed in Table 1 of Unit III, until the date of publication of this Federal Register notice. Thereafter, the registrants are prohibited from selling or distributing products listed in Table 1, except for export in accordance with FIFRA section 17 (7 U.S.C. 136o), or proper disposal. Persons other than the registrants may sell, distribute, or use existing stocks of products listed in Table 1 of Unit III, until existing stocks are exhausted, provided that such sale, distribution, or use is consistent with the terms of the previously approved labeling on, or that accompanied, the canceled products.

Authority: 7 U.S.C. 136 et seq.

Dated: February 16, 2022.
Marietta Echeverria,
Acting Director, Registration Division, Office of Pesticide Programs.

[FR Doc. 2022-03841 Filed 2-22-22; 8:45 am]

BILLING CODE 6560-50-P